DELAWARE RIVER BASIN COMMISSION

Notice of Commission Meeting and Public Hearing

Notice is hereby given that the Delaware River Basin Commission will hold an informal conference followed by a public hearing on Wednesday, October 15. The hearing will be part of the Commission's regular business meeting. Both the conference session and business meeting are open to the public and will be held at the Commission's offices at 25 State Police Drive, West Trenton, New Jersey.

The conference among the commissioners and staff will begin at 9:30 a.m. Topics of discussion will include: an update on development of the Water Resources Plan for the Delaware River Basin, including a proposed resolution authorizing the executive director to solicit public comment on the draft plan; an update on establishment of the TMDLs for PCBs in the Delaware Estuary; an update on activities concerning the TMDL Implementation Advisory Committee (IAC), including a summary of a meeting among the regulatory agency participants, IAC membership status, fundraising and plans for an initial two-day meeting on October 21-22; a discussion on the status of the Lake Wallenpaupack drought operating plan approved by Resolution No. 2002-33 on November 25, 2002, including a proposal to extend beyond December 3, 2003 the credit granted PPL to satisfy its consumptive use compensation requirement; and a presentation by a representative from PSEG, updating their Estuary Enhancement Program.

The subjects of the public hearing to be held during the 1:30 p.m. business meeting include the dockets listed below:

1. Borough of Jim Thorpe D-81-71 CP RENEWAL 3. An application for the renewal of a ground water withdrawal project to continue withdrawal of 14.1 million gallons per 30 days (mg/30 days) to supply the applicant's public distribution system from existing Wells Nos. 1 and 4 in the Maunch Chunk Formation in the Silkmill Run Watershed. The project is located in Jim Thorpe Borough, Carbon County, Pennsylvania.

2. Borough of Alpha D-87-62 CP RENEWAL 2. An application to renew a ground water withdrawal of 13.0 mg/30 days to supply the applicant's public distribution system from existing Wells Nos. 1, 2, and 3 in the Lopatcong Creek and Pohatcong Creek watersheds. The project is located in Alpha Borough, Warren County, New Jersey.

3. City of Bridgeton D-98-50 CP. An application to replace Wells Nos. 3, 6, 7, 8, and 9 in the applicant's public water distribution system, which have become unreliable, with replacement Wells Nos. 18, 19, 20, and 21; and to add new Wells Nos. 22, 23, and 24. The applicant requests that the combined allocation for the new wells be limited to 60 mg/30 days of water, and that the total withdrawal from all wells be limited to 170 mg/30 days. The project is located in the Cohansey River Watershed in the City of Bridgeton, Cumberland County, New Jersey.

4. Saville Rustin Water Company D-2003-19 CP. An application for approval of a ground water withdrawal project to supply up to 1.296 mg/30 days of water to the applicant's public water distribution system from new Well No. 6, and to retain the existing withdrawal from all wells of 7.5 mg/30 days. The project well is located in the Little Bushkill Watershed in Lehman Township, Pike County, Pennsylvania.

5. East Penn Manufacturing D-2003-23. An application for approval of a ground water withdrawal project to supply up to 15 mg/30 days of water to the applicant's industrial facility from new Wells Nos. 2, 4, 5, 6, 7, 8, and 9 in the Leithsville and Hardyston Formations, and to establish the withdrawal from all wells at 15 mg/30 days. The project wells are located in the Moselem Creek Watershed in Richmond Township, Berks County, Pennsylvania.

6. Great Lakes Companies, Inc. D-2003-25. An application to construct a 0.09 mgd STP to provide tertiary treatment of wastewater from the proposed Great Wolf Lodge, a 400-unit hotel with an indoor water park. The project is located on the northwest corner of the intersection of State Route 611 and Interstate Route 80 in Pocono Township, Monroe County, Pennsylvania. Following tertiary treatment, a portion of the effluent will be spray applied to on-site areas. The remaining effluent will be discharged to Scot Run, a tributary of Pocono Creek in the Brodhead Creek Watershed, approximately 18 river miles upstream from DRBC Special Protection Waters.

In addition to the public hearing items, the Commission will address the following at its 1:30 p.m. business meeting: Minutes of the September 3, 2003 business meeting; announcements; a report on Basin hydrologic conditions; a report by the executive director; a report by the Commission's general counsel; a resolution suspending the authority of the applicant to proceed with its project set forth in Docket D-98-11 CP (“the Cornog Quarry Project”), at the applicant's request, pending a further decision of the Commission; a resolution authorizing the executive director to solicit public comment on the draft Water Resources Plan for the Delaware River Basin; a resolution authorizing the executive director to enter into a contract for the development of public outreach materials for the Basin Plan; and a resolution for the minutes amending the Administrative Manual: By-Laws, Management and Personnel by increasing the limit on employee contributions to Unreimbursed Medical Spending Accounts (UMSAs), in accordance with Section 125 of the Federal Internal Revenue Code.

Draft dockets scheduled for public hearing on October 15, 2003 are posted on the Commission's Web site, http://www.drbc.net, where they can be accessed through the Notice of Commission Meeting and Public Hearing. Additional documents relating to the dockets and other items may be examined at the Commission's offices. Please contact Thomas L. Brand at 609-883-9500 ext. 221 with any docket-related questions.

Persons wishing to testify at this hearing are requested to register in advance with the Commission secretary at 609-883-9500 ext. 203. Individuals in need of an accommodation as provided for in the Americans with Disabilities Act who wish to attend the hearing should contact the Commission secretary directly at 609-883-9500 ext. 203 or through the Telecommunications Relay Services (TRS) at 711, to discuss how the Commission may accommodate your needs.

Dated: October 1, 2003.
Pamela M. Bush,
Commission Secretary.

[FR Doc. 03-25571 Filed 10-8-03; 8:45 am]

BILLING CODE 6360-01-P